DEPARTMENT OF LABOR

Employment and Training Administration

Information Collection Request for the ETA 191, Statement of Expenditures and Financial Adjustments of Federal Funds for Unemployment Compensation for Federal Employees and Ex-Servicemembers Report: Extension Without Change, Comment Request

AGENCY: Employment and Training Administration.

ACTION: Notice.

SUMMARY: The Department of Labor, as part of its continuing effort to reduce paperwork and respondent burden, conducts a preclearance consultation program to provide the general public and Federal agencies with an opportunity to comment on proposed and/or continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

A copy of the proposed information collection request (ICR) can be obtained by contacting the office listed below in the ADDRESSES section of this notice or by accessing: http://www.doleta.gov/OMBCN/OMBControlNumber.cfm.

DATES: Written comments must be submitted to the office listed in the ADDRESSES section below on or before June 1, 2009.

ADDRESSES: Thomas Stengle, U.S. Department of Labor, Employment and Training Administration, Office of Workforce Security, 200 Constitution Avenue, NW., Room S-4231, Washington, DC 20210; by phone at (202) 693-2991 (this is not a toll-free number); by fax at (202) 693-2874; or by e-mail: stengle.thomas@dol.gov.

SUPPLEMENTARY INFORMATION: I. Background: Public Law 97-362, Miscellaneous Revenue Act of 1982, amended the Unemployment Compensation for Ex-Servicemembers (UCX) law (5 U.S.C. 8509), and Public Law 96-499, Omnibus Budget Reconciliation Act, amended the Unemployment Compensation for Federal Employees (UCFE) law (5 U.S.C. 8501, et. seq.) requiring each Federal employing agency to pay the costs of regular and extended UCFE/UCX benefits paid to its employees by the State Workforce Agencies (SWAs). The ETA 191 report submitted quarterly by each SWA shows the amount of benefits that should be charged to each Federal employing agency. The Office of Workforce Security uses this information to aggregate the SWA quarterly charges and submit one official bill to each Federal agency being charged. Federal agencies then reimburse the Federal Employees Compensation (FEC) Account maintained by the U.S. Treasury.

II. Desired Focus of Comments: Currently, the Employment and Training Administration is soliciting comments concerning the proposed extension of the ETA 191, Statement of Expenditures and Financial Adjustments of Federal Funds for Unemployment Compensation for Federal Employees and Ex-Servicemembers Report. Comments are requested to:

• Evaluate whether the proposed collection of information is necessary to assess performance of the nonmonetary determination function, including whether the information will have practical utility;

• Evaluate the accuracy of the agency's estimate of the burden of the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

III. Current Actions:

Type of Review: Extension without change.

Agency: Employment and Training Administration (ETA).

Title: Statement of Expenditures and Financial Adjustments of Federal Funds for Unemployment Compensation for Federal Employees and Ex-Servicemembers.

OMB Number: 1205-0162.

Agency Number: ETA 191.

Affected Public: State Government.

Total Respondents: 53.

Frequency: Quarterly.

Total Responses: 53 states × 4 quarters = 212 responses.

Average Time per Response: 6 hours.

Estimated Total Burden Hours: 1,272 hours.

Total Burden Cost (Capital/Startup): $0.

Total Burden Cost (Operating/Maintaining): $0.

Comments submitted in response to this notice will be summarized and/or included in the request for Office of Management and Budget approval of the information collection request; they will also become a matter of public record.

Dated: March 25, 2009.
Cheryl Atkinson,
Administrator, Office of Workforce Security.

[FR Doc. E9-7119 Filed 3-30-09; 8:45 am]

BILLING CODE 4510-30-P